DEPARTMENT OF DEFENSE

Office of the Secretary

Threat Reduction Advisory Committee

AGENCY: Department of Defense.

ACTION: Notice.

SUMMARY: On December 29, 2000 (65 FR 82984), the Department of Defense published an announcement of a closed Threat Reduction Advisory Committee meeting to be held on February 15, 2001. The meeting is hereby postponed until a later date. A new notice announcing will be published in the future.

FOR FURTHER INFORMATION CONTACT: Major Don Culp 703-767-5717.

Dated: February 1, 2001.
L.M. Bynum,
Alternate OSD Federal Register Liaison Officer, Department of Defense.

[FR Doc. 01-3140 Filed 2-06-01; 8:45 am]

BILLING CODE 5001-10-M